POSTAL REGULATORY COMMISSION

[Docket No. MC2026-21; Order No. 9276]

Competitive Postal Products

AGENCY: Postal Regulatory Commission.

ACTION: Notice.

SUMMARY: The Commission is recognizing a recent filing by the Postal Service concerning a product description change to the Mail Classification Schedule. This notice informs the public of the filing, invites public comment, and takes other administrative steps.

DATES: Comments are due: October 24, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On October 14, 2025, pursuant to 39 CFR 3040.180, the Postal Service filed a request to make material changes to the product description for Competitive International Registered Mail in the Mail Classification Schedule (MCS) section 2615.2, and to make accompanying material changes to MCS sections 2335.5, 2510.3.5, 2510.7.5, and 2510.8.5 in which Competitive International Registered Mail is listed as an optional feature for First-Class Package International Service.¹

¹ Request of the United States Postal Service for Classification Changes Concerning Competitive International Registered Mail and Notice of Filing Materials Under Seal, October 14, 2025, at 1 (Request).

II. Contents of Filing

The Postal Service states that it proposes these material changes to the MCS so that its offerings will conform with certain changes to the Universal Postal Union (UPU) Universal Postal Convention (Convention) and the Convention Regulations that are related to international registered mail. Request at 1. The Postal Service states that it currently offers International Registered Mail as an optional feature for First-Class Mail International (FCMI) and First-Class Package International Service (FCPIS). Id. at 2. It states that FCMI corresponds with outbound small letters (P) and large letters (G) for letter-post items under the Convention, and FCPIS corresponds with outbound bulky letters (E) and small packets (E) for letter-post items under the Convention. Id.

According to the Postal Service, the UPU amended the Convention during the 2023 UPU Extraordinary Congress so that, effective January 1, 2026, international registered mail will be available for letter-post small letters (P), large letters (G), and bulky letters (E) format items containing documents only, but not for small packets (E) format items containing goods. Id. at 2-3 (citations omitted). In addition, the Postal Service states that the UPU further amended the Convention during the 2025 UPU Congress so that, effective January 1, 2027, bulky letters (E) will be discontinued, and documents will be only eligible to be included in small letters (P) and large letters (G) format items when mailed internationally in letter post. Id. at 4 (citations omitted).

The Postal Service states that as a result of these amendments to the Convention, International Registered Mail will only be offered for small letters (P) and large letters (G) format items as FCMI. Id. at 5. Consequently, the Postal Service proposes to remove the outbound portion of Competitive International Registered Mail in MCS section 2615.2 and make conforming changes throughout the Competitive product list in the MCS to reflect that Competitive International Registered Mail will no longer be available as an optional feature for FCPIS. Id. at 5-6.

The Postal Service states that although the restriction of international registered mail to letter-post items containing documents only (not goods) is effective January 1, 2026, and the discontinuation of bulky letters (E) format is effective January 1, 2027, it proposes to implement both of the material changes to the MCS on January 1, 2026. Id. at 5.

The Postal Service includes a copy of Governors' Decision No. 25-3 supporting the Request in Attachment 1, a copy of the applicable sections of the MCS and the proposed changes in legislative format in Attachment 2, and an application for non-public treatment of materials filed under seal in Attachment 3. Id. at 2; id. Attachments 1-3. The Postal Service provides supporting justification for the proposed material changes to the MCS, including a description of and rationale for the proposed changes, why the proposed changes will not result in the violation of any of the standards of 39 U.S.C. 3633 and 39 CFR part 3035, and the likely impact that the proposed changes will have on users of the product and on competitors. See Request at 7-11.

III. Commission Action

The Commission establishes Docket No. MC2026-21 for consideration of matters raised by the Request.

The Commission invites comments on whether the Postal Service's filing is consistent with 39 U.S.C. 3633 and 39 CFR 3040.180 and 3040.181. Comments are due October 24, 2025. The public portions of the filings can be accessed via the Commission's website (https://www.prc.gov).

The Commission appoints Samuel Robinson to represent the interests of the general public (Public Representative) in this docket, pursuant to 39 CFR 3010.101(q)(3). The Public Representative does not represent any individual person, entity, or particular point of view, and, when Commission attorneys are appointed, no attorney-client relationship is established.

IV. Ordering Paragraphs

It is ordered:

1. The Commission establishes Docket No. MC2026-21 for consideration of matters raised by the Postal Service's Request.

2. Pursuant to 39 CFR 3010.101(q)(3), Samuel Robinson is appointed to serve as an officer of the Commission (Public Representative) to represent the interests of the general public in this proceeding.

3. Comments are due October 24, 2025.

4. The Secretary shall arrange for publication of this Order in the Federal Register.

By the Commission.
Erica A. Barker,
Secretary.

[FR Doc. 2025-19605 Filed 10-20-25; 8:45 am]

BILLING CODE 7710-FW-P